DEPARTMENT OF LABOR

Employment and Training Administration

[TA-W-54,353]

Gateway Sportswear Corp., A Subsidiary of the Production Department, Confluence, PA; Notice of Termination of Investigation

Pursuant to section 221 of the Trade Act of 1974, as amended, an investigation was initiated on February 25, 2004 in response to a petition filed by a company official on behalf of workers at Gateway Sportswear, Confluence, Pennsylvania.

The petitioning group of workers is covered by an earlier petition instituted on February 19, 2004 (TA-W-54,314) that is the subject of an ongoing investigation for which a determination has not yet been issued. Further investigation in this case would duplicate efforts and serve no purpose; therefore the investigation under this petition has been terminated.

Signed at Washington, DC, this 9th day of March 2004.
Richard Church,
Certifying Officer, Division of Trade Adjustment Assistance.

[FR Doc. 04-7587 Filed 4-2-04; 8:45 am]

BILLING CODE 4510-30-P